DEPARTMENT OF HEALTH AND HUMAN SERVICES

Agency for Toxic Substances and Disease Registry

[ATSDR-219]

Public Health Assessments Completed October 1, 2005-December 31, 2005

AGENCY: Agency for Toxic Substances and Disease Registry (ATSDR), Department of Health and Human Services (HHS).

ACTION: Notice.

SUMMARY: This notice announces those sites for which ATSDR has completed public health assessments during the period from October 1, 2005 through December 31, 2005. This list includes sites that are on or proposed for inclusion on the National Priorities List (NPL) and includes sites for which assessments were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on November 28, 2005 [70 FR 71310]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the ATSDR Records Center, 1825 Century Boulevard, Atlanta, Georgia (not a mailing address), between 8 a.m. and 4:30 p.m., Monday through Friday except legal holidays. Public health assessments are often available for public review at local repositories such as libraries in corresponding areas. Many public health assessments are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between October 1, 2005, and December 31, 2005, public health assessments were issued for the sites listed below:

NPL and Proposed NPL Sites

Florida

United Metals, Incorporated—(PB2006-100865).

Georgia

Cedartown Industries, Incorporated—(PB2006-102395).

Hawaii

Pearl Harbor Naval Complex—(PB2006-102414)

Massachusetts

Hatheway and Patterson Company—(PB2006-100884).

Missouri

Madison County Mines Site—(PB2006-101990).

New York

Lawrence Aviation Industries—(PB2006-101529).

Stanton Cleaners Area Groundwater Contamination Site—(PB2006-101530).

Tennessee

TSCA Incinerator—U.S. Department of Energy Oak Ridge Reservation—(PB2006-103434).

Non-NPL Petitioned Sites

Florida

The Lincoln Park Complex—(PB2006-100864).

Georgia

L & B Recycling, Incorporated—(PB2006-100885).

New York

Norlite Corporation—(PB2006-101989).

Dated: March 16, 2006.
Kenneth Rose,
Acting Director, Office of Policy, Planning, and Evaluation, National Center for Environmental Health, Agency for Toxic Substances and Disease Registry.

[FR Doc. E6-4554 Filed 3-28-06; 8:45 am]

BILLING CODE 4163-70-P